DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed project or to obtain a copy of the information collection plans, call the SAMHSA Reports Clearance Officer at (240) 276-1243.

Comments are invited on (a) whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Assessment of the Underage Drinking Prevention Education Initiatives State/Territory Videos Project—New

The Substance Abuse and Mental Health Services Administration/Center for Substance Abuse Prevention (SAMHSA/CSAP) is requesting Office of Management and Budget (OMB) approval of three new data collection instruments—

• State/Territory Video Contacts Interview Form

• State/Territory Videos Project—Dissemination Update Form

• Video Viewers Feedback Form

This new information collection is for a process assessment of the Underage Drinking Prevention Education Initiatives State/Territory Videos project to be conducted from 2011 through 2014. In 2007, four States participated in a pilot study to produce videos highlighting the underage drinking (UAD) prevention efforts of the States. Based upon the success of those videos in showcasing the States' UAD prevention activities, 10 additional States and 1 Territory were provided funds to produce UAD prevention videos in 2009. SAMHSA/CSAP intends to support the production of the State/Territory UAD prevention videos annually. Therefore, from 2010 through 2013, SAMHSA/CSAP will invite approximately 45 additional States/Territories to produce their own UAD prevention video.

The information collected for the assessment will be used by SAMHSA/CSAP to (1) ascertain whether the videos produced under the State/Territory Videos project are assisting States and Territories in communicating effectively about their underage drinking prevention initiatives, goals, and objectives; (2) document the dissemination efforts of the videos; and (3) enhance the technical assistance (TA) that is provided by the video production team in producing the videos. This information collection is being implemented under authority of Section 501(d)(4) of the Public Health Service Act (42 USC 290aa).

There are three phases to the process assessment of the State/Territory Videos project—(1) State/Territory video contacts interviews, (2) dissemination updates, and (3) video viewers feedback.

Phase I—State/Territory Video Contacts Interviews—A member of the assessment team will contact the designated State/Territory point of contact once the video is finalized. The focus of the interview will be around the State's/Territory's experience in producing the UAD prevention video, the dissemination efforts of the video, and TA received. The interview will be guided by the State/Territory Video Contacts Interview Form. The State/Territory Video Contacts Interview Form includes 31 items, among which are included the following:

• Objectives of the video.

• Targeted audiences of the video.

• Dissemination efforts of the video.

• Identification of how the video increases capacity to communicate about UAD prevention activities.

• Usefulness of the preplanning materials and activities.

• Assessment of the TA received.

By 2014, the State/Territory Video Contacts Interview Form will be completed with approximately 45 State/Territory points of contact for videos produced from 2010 through 2013. It will take an average of 20 minutes (0.333 hours) to read the informed consent statement and complete the interview. This burden estimate is based on interviews that were conducted with the pilot sites in 2007. Only 1 response per respondent is required.

Phase II—Dissemination Updates—At about 6 months after the interview, the State/Territory points of contact will be sent an e-mail from the assessment team detailing the need to update the dissemination efforts of the video for the past 6 months. The e-mail will include a coded link to access the State/Territory Video Project—Dissemination Update Form. The State/Territory Video Project—Dissemination Update Form includes 16 items, among which are included the following:

• Dissemination efforts of the video in the past 6 months.

• Feedback received on the video in the past 6 months.

• Unintended positive outcomes from the video in the past 6 months.

• Assessment of TA received in the past 6 months.

At the end of the form, the contact is thanked and reminded that they will be recontacted in about 6 months to update the dissemination efforts of their State's/Territory's video. Following OMB clearance, an e-mail will be sent to the State/Territory points of contact for videos produced during 2007-2009 noting that OMB clearance has been received for the assessment and asking them to update the dissemination efforts of the video for the past 6 months. These State/Territory points of contact provided initial details of the dissemination activities of their State's/Territory's video to the video production team during the post-production phase of the video. All videos produced under the State/Territory Videos project during 2007-2013 (total of 60) will be assessed in this phase.

The State/Territory Videos Project—Dissemination Update Form will be completed by State/Territory points of contact every 6 months through 2014. A total of 226 updates are expected through 2014. It will take an average of 10 minutes (0.167 hours) to review instructions and complete the online form. The burden estimate is based on comments from several potential respondents who reviewed the form and provided comments on how long it would take them to respond to it. The annualized hour burden is expected to vary because of differences in when the videos were produced and the number of updates that are expected through 2014.

Phase III—Video Viewers Feedback—The purpose of this phase of the assessment is to obtain feedback on the videos to determine if the videos increased community awareness of the UAD prevention efforts of the States/Territories. The Video Viewers Feedback Form will be located on the “State Videos” page of http://www.stopalcoholabuse.gov. A link to the feedback form may also be placed on SAMHSA's YouTube channel (if additional clearance is obtained). If States/Territories conduct in-person meetings to showcase the video, they may direct persons to the “State Videos” page of http://www.stopalcoholabuse.gov to complete the form or a link to the form will be provided that can be placed on their agency's Web site. Viewers will be asked to complete 1 feedback form for each video viewed. The Video Viewers Feedback Form includes 16 items, among which are included the following:

• Indication of which video was viewed.

• When and how the video was viewed.

• Indication of increased awareness of the State's/Territory's UAD prevention activities.

• Perception of increased involvement.

• Demographics of the viewers.

This phase will include all videos produced since 2007 (total of 60). It is estimated that by 2014, a total of 12,224.40 viewers will complete the online form, which will take an average of 5 minutes (0.083 hours) to review the informed consent statement, instructions, and complete the form. The average completion time is based on comments from several potential respondents who reviewed the form and provided comments on how long it would take them to respond to it. Viewers of the video are assumed to be persons in the health education field or members of the general public (25 and 75 percent, respectively). The hour burden is expected to vary because of this difference in viewers.

Estimated Burden Table by Phase—All Four Years (2011-2014)
Phases | Number of respondents (production year of video) | Responses per respondent | Total responses | Hours per response | Total hour burden
Phase I—State/Territory Contacts Interviews | 45 | 1 | 45 | 0.333 | 14.99
| 4 (2007) | 6 | 24 | 0.167 | 4.01
| 11 (2009) | 6 | 66 | 0.167 | 11.02
Phase II—Dissemination Updates | 8 (2010) | 6 | 48 | 0.167 | 8.02
| 13 (2011) | 4 | 52 | 0.167 | 8.68
| 12 (2012) | 2 | 24 | 0.167 | 4.01
| 12 (2013) | 1 | 12 | 0.167 | 2.00
Phase III—Video Viewers Feedback | 3,056.10 | 1 | 3,056.10 | 0.083 | 253.66
| 9,168.30 | 1 | 9,168.30 | 0.083 | 760.97
Total—all Phases | 12,329.40 |  | 12,495.40 |  | 1,067.36

Estimated Averaged* Annualized Burden Table
Form name | Number of respondents | Responses per respondent | Total responses | Hours per response | Total hour burden
State/Territory Video Contacts Interview Form | 15 | 1 | 15 | 0.333 | 5.00
State/Territory Videos Project—Dissemination Update Form | 15 | 6.25 | 56.50 | 0.167 | 9.44
Video Viewers Feedback Form | 764.03 | 1 | 764.03 | 0.083 | 63.42
| 2,292.08 | 1 | 2,292.08 | 0.083 | 190.24
Total | 3,086.11 |  | 3,127.61 |  | 268.10
* The numbers reflected in this table are averaged across all 4 years of the assessment, except for the State/Territory Video Contacts Interview Form which is averaged across 3 years. The hours per response rates are actual not average figures. Figures in this table may be off slightly from figures in the Estimated Burden Table by Phase—All Four Years (2011-2014) due to rounding.

Send comments to Summer King, SAMHSA Reports Clearance Officer, Room 8-1099, One Choke Cherry Road, Rockville, MD 20857 and e-mail a copy to summer.king@samhsa.hhs.gov. Written comments should be received within 60 days of this notice.

Dated: April 27, 2011.
Elaine Parry,
Director, Office of Management, Technology, and Operations.

[FR Doc. 2011-10851 Filed 5-3-11; 8:45 am]

BILLING CODE 4126-20-P